DEPARTMENT OF COMMERCE

National Oceanic and Atmospheric Administration

[I.D. 111704A]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Shrimp Committee, Mackerel Committee, Protected Resources Committee, Dolphin Wahoo Committee and Snapper Grouper Committee. The Council will also hold a joint meeting of its Ecosystem-Based Management Committee and Habitat Committee, a joint Executive/Finance Committees meeting, and closed sessions of its Personnel Committee and Advisory Panel (AP) Selection Committee. In addition, there will be a public hearing addressing Action 5 in Amendment 6 to the Shrimp Fishery Management Plan (FMP) (Federal permits) and a meeting of the full Council.

DATES: The meeting will be held in December 2004. See SUPPLEMENTARY INFORMATION for specific dates and times.

ADDRESSES: The meeting will be held at Sheraton Atlantic Beach, 2717 Fort Macon Road, Atlantic Beach, NC 28512; telephone: (1-800) 624-8875 or (252) 240-1155, fax: (252) 240-1452.

Copies of documents are available from Kim Iverson, Public Information Officer, South Atlantic Fishery Management Council, One Southpark Circle, Suite 306, Charleston, SC 29407-4699.

FOR FURTHER INFORMATION CONTACT: Kim Iverson, Public Information Officer; telephone: 843-571-4366 or toll free at 866/SAFMC-10; fax: 843-769-4520; e-mail: kim.iverson@safmc.net.

SUPPLEMENTARY INFORMATION:

Meeting Dates

1. Joint Ecosystem-Based Management and Habitat Committee Meeting: December 6, 2004, 1:30 p.m. - 5 p.m.

During the joint meeting, the Committees will review the status of the Council's Draft Action Plan for Ecosystem-Based Management and receive an update on workshops conducted thus far relevant to the Action Plan. The Committees will also receive a briefing on the results of the joint meeting of the Council's Habitat AP and Coral AP and provide staff with direction for continued work regarding Ecosystem-Based Management.

Note: A public hearing for Action 5 (federal shrimp permits) in Amendment 6 to the Shrimp Fishery Management Plan (FMP) will be held December 6, 2004 beginning at 6 p.m.

2. Personnel Committee Meeting: December 7, 2004, 8:30 a.m. - 10 a.m. (CLOSED SESSION)

The Committee will receive a report from the Executive Director regarding staff issues.

3. Joint Executive Committee and Finance Committee Meeting: December 7, 2004, 10 a.m. until 12 noon

The Committees will receive an update on the Calendar Year (CY) 2004 budget, the status of the Fiscal Year 2005 Congressional budget, Approve the CY 2005 activities schedule and the 2005 CY budget, and receive a report on the status of the CY 2005-09 grant budget.

4. Shrimp Committee Meeting: December 7, 2004, 1:30 p.m. 2:30 p.m.

The Shrimp Committee will review the public comments received regarding Action 5 to Amendment 6 to the Shrimp FMP. Action 5 in the amendment addresses alternatives for federal shrimp vessel permit requirements in the South Atlantic exclusive economic zone (EEZ). After reviewing comments, the Committee will develop recommendations for full Council to consider.

5. Mackerel Committee Meeting: December 7, 2004, 2:30 p.m. - 3:30 p.m.

The Mackerel Committee will review public comments regarding Amendment 15 to the FMP for Coastal Migratory Pelagic Resources (mackerel) in the Gulf of Mexico and South Atlantic. Amendment 15 addresses the current permit moratorium for king mackerel and proposed changes to the fishing year for both king and Spanish mackerel in the South Atlantic. The Committee will review Final Amendment 15 and develop recommendations for the full Council.

6. Advisory Panel Selection Committee Meeting: December 7, 2004, 3:30 p.m. 5 p.m. (CLOSED SESSION)

The Advisory Panel Selection Committee will meet to review applications to the Council's advisory panels and develop recommendations to full Council.

7. Protected Resources Committee Meeting: December 8, 2004, 8:30 a.m. - 10 a.m.

The Protected Resources Committee will receive an update on protected resources activities, a report on the Southeast Aquatic Resources Partnership (SARP) meeting, and a briefing on the strategy for reducing sea turtle bycatch in fisheries from NMFS. The Committee will provide input on future activities regarding protected resources.

8. Dolphin Wahoo Committee Meeting: December 8, 2004, 10 a.m. - 12 noon

The Dolphin Wahoo Committee will meet to discuss tournament sales of dolphin and wahoo and take action as necessary.

9. Snapper Grouper Committee Meeting: December 8, 2004, 1:30 p.m. 5 p.m. and December 9, 2004, 8:30 a.m. - 5 p.m.

The Snapper Grouper Committee will meet to continue its review of draft Amendment 13B to the Snapper Grouper FMP and choose its preferred management measure alternatives. In addition, the Committee will discuss the issue of the renewal timeframe for federal snapper/grouper permits.

10. Council Session: December 10, 2004, 8:30 a.m. - 1:30 p.m.

From 8:30 a.m. - 8:45 a.m., the Council will call the meeting order, make introductions and roll call and adopt the meeting agenda.

From 8:45 a.m. - 9:15 a.m., the Council will hear a report from the Shrimp Committee and approve Amendment 6 for formal Secretarial review.

Note: A public comment period on Action 5 (permit requirements) in Shrimp Amendment 6 will be held at 8:45 a.m.

From 9:15 a.m. - 9:30 a.m., the Council will receive a report from the Joint Executive/Finance Committee and take action to approve the CY 2005 Activities Schedule and Budget.

From 9:30 a.m. - 9:45 a.m., the Council will hear a report from the Mackerel Committee and approve Amendment 15 to the FMP for Coastal Migratory Pelagics in the Gulf of Mexico and South Atlantic for formal Secretarial review.

Note: A public comment on Mackerel Amendment 15 will be held at 9:30 a.m.

From 9:45 a.m. - 10 a.m., the Council will hear a report from the Snapper Grouper Committee and take action as appropriate.

From 10 a.m. - 10:15 a.m., the Council will hear a report from the joint meeting of the Ecosystem-Based Management Committee and Habitat Committee and take action as appropriate.

From 10:15 a.m. - 10:45 a.m., the Council will hear a report from the Advisory Panel Selection Committee and appoint Advisory Panel members.

From 10:45 a.m. - 11 a.m., the Council will hear a report from the Protected Resources Committee and take action as appropriate.

From 11 a.m. - 11:15 a.m., the Council will hear a report from the Dolphin Wahoo Committee and take action as appropriate.

From 11:15 a.m. - 11:30 a.m., the Council will hear a report from the Law Enforcement Committee and take action as appropriate.

From 11:30 a.m. - 11:45 a.m., the Council will receive status reports from NMFS Southeast Regional Office.

From 11:45 a.m. - 12:15 p.m., the Council will receive a briefing on litigation and other legal issues affecting the Council (CLOSED SESSION).

From 12:15 p.m. - 1:30 p.m., the Council will hear agency and liaison reports, discuss other business, and review upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by December 3, 2004.

Dated: November 18, 2004.
Alan D. Risenhoover,
Acting Director, Office of Sustainable Fisheries, National Marine Fisheries Service.

[FR Doc. E4-3289 Filed 11-22-04; 8:45 am]

BILLING CODE 3510-22-S